DEPARTMENT OF AGRICULTURE

Agency Information Collection Activities

AGENCY: Office of the Chief Information Officer, USDA.

ACTION: Notice and request for comments.

SUMMARY: In accordance with the Paperwork Reduction Act of 1995, this notice announces and requests comments on the intention of the Office of the Chief Information Officer (OCIO) to request approval for the continuation of and changes to the U.S. Department of Agriculture (USDA) Registration Form to Request Electronic Access Code information collection to allow USDA customers to securely and confidently share data and receive services electronically.

DATES: Comments on this notice must be received on or before April 20, 2020 to be assured of consideration.

ADDRESSES:

• Federal eRulemaking Portal: This website provides the ability to type short comments directly into the comment field on this web page or attach a file for lengthier comments. Go to http://www.regulations.gov. Follow the on-line instructions at that site for submitting comments.

• Interested persons are invited to submit comments concerning this information collection to Adam Zeimet, 2150 Centre Avenue, Building A—Suite 350, Fort Collins, Colorado 80526. Fax comments should be sent to the attention of Adam Zeimet at fax number (970) 295-5238.

FOR FURTHER INFORMATION CONTACT: Adam Zeimet by telephone at (970) 295-5678, or via email at Adam.Zeimet@usda.gov.

SUPPLEMENTARY INFORMATION: Authority for obtaining information from customers is included in the Freedom to E-File Act (7 U.S.C. 7031-7035), the Electronic Signatures in Global and National Commerce Act (E-SIGN) (15 U.S.C. 7001-7031), the E-Government Act of 2002 (44 U.S.C. 3601-3606; 3541-3549), and the GRAMM-LEACH-BLILEY ACT (Pub. L. 106-102, 502-504). Customer information is collected through the USDA eAuthentication Service (eAuth), located at https://www.eauth.usda.gov. The USDA eAuth service provides both public citizens as well as federal government employees with a secure single sign-on capability for USDA applications, management of user credentials, and verification of identity, authorization, and electronic signatures. USDA's eAuth Application service obtains customer information through an electronic self-registration process provided through the eAuth website. This voluntary online self-registration process and identity proofing process (either in-person at a USDA Service Center or online with national credit bureaus) enables USDA customers to obtain accounts as authorized users that will provide single sign-on capability, self-registration, and account management to access USDA Web applications and services via the internet.

In accordance with the Paperwork Reduction Act of 1995 (44 U.S.C. Chapter 35), this notice announces the intention of USDA-OCIO—Customer Experience Center—Identity and Access Services Branch (Identity, Credential, and Access Management Program) to request approval for an existing collection.

Title: USDA Registration Form to Request Electronic Access Code.

OMB Number: 0503-0014.

Expiration Date of Approval: 4/30/2020.

Type of Request: Extension of a currently approved information collection.

Abstract: The USDA OCIO developed the eAuthentication Service as a management and technical process that addresses user authentication and authorization prerequisites for providing services electronically. The process requires a one-time electronic self-registration to obtain an eAuth account for each USDA customer desiring access to on-line services or applications that require user authentication. USDA customers may self-register for an account in accordance to OMB Memorandum M-19-17 and National Institute of Standards and Technology Special Publication 800-63-3 (or superseding publications). An eAuthentication account, without identity verification, provides users with limited access to USDA website portals and applications that have minimal security requirements. A customer with an eAuthentication account, with identity verification, is permitted to conduct official electronic business transactions via the internet, enter into a contract with the USDA, and submit forms electronically via the internet to USDA agencies. Due to the increased risk associated with these types of transactions, the identity of customers must be verified through a process called “identity proofing”. Identity proofing can be accomplished for USDA customers in two ways: (1) By visiting a Local Registration Authority (LRA) at a USDA Service Center; or (2) Through an integrated online identity proofing service with a National Credit Bureau. The on-line identity proofing service provides registrants with a more efficient mechanism for identity verification. On-line identity proofing requires responses to at least four randomly selected identity questions that are verified by a national credit bureau identity proofing service in an automated interface. Once the user's identity if verified, they may use the associated credential to access USDA resources that utilize eAuthentication services.

Estimate of Burden: Public reporting burden for this collection of information is estimated to take three (3) minutes to complete the self-registration process for an eAuthentication account, without identity verification. Customers needing a higher form of access are required to provide additional information for identity proofing purposes. The data entry for identity verification is estimated to take three (3) minutes. For identity verification through a LRA, the time is estimated to take one (1) hour to travel to a USDA Service Center to visit a Local Registration Authority (expected to be approximately 15% of the registrants), or three (3) minutes when using the on-line identity proofing service (expected to be approximately 85% of the registrants).

Respondents: Individual USDA Customers.

Estimated Number of Respondents per account type:

• eAuthentication account, without identity proofing: 103,704

• eAuthentication account, with identity proofing: 34,692

○ In Person ID Proofing (15%): 5,204

○ Online/Remote ID Proofing (85%): 29,488

Estimated Total Number of Respondents: 138,396.

Estimated Number of Responses per Respondent: 1.

Estimated Total Annual Burden on Respondents: 17,038.3 hours.

Comments are invited on (1) Whether the proposed collection of information is necessary for the proper performance of the functions of the agency, including whether the information will have practical utility; (2) the accuracy of the agency's estimate of burden of the proposed collection of information, including the validity of the methodology and assumptions used; (3) ways to enhance the quality, utility, and clarity of the information to be collected; and (4) ways to minimize the burden of the collection of the information on those who respond, through the use of appropriate automated, electronic, mechanical, technological or other forms of information technology collection methods. Copies of the information collection may be obtained from Mr. Zeimet by calling or emailing your request to the contact information above in the FOR FURTHER INFORMATION section. All responses to this notice will be summarized and included in the request for OMB approval. All comments will become a matter of public record.

Dated: February 10, 2020.
Gary Washington,
Chief Information Officer, Office of the Chief Information Officer.

[FR Doc. 2020-03119 Filed 2-19-20; 8:45 am]

BILLING CODE 3410-KR-M